DEPARTMENT OF DEFENSE

Office of the Secretary

Senior Executive Service Performance Review Board

AGENCY: Office of Inspector General, DoD.

ACTION: Notice.

SUMMARY: This notice announces the appointment of the members of the Senior Executive Service (SES) Performance Review Board (PRB) for the Department of Defense Office of Inspector General (DoD OIG), as required by 5 U.S.C. 4314(c)(4). The PRB provides fair and impartial review of SES performance appraisals and makes recommendations regarding performance ratings and performance awards to the Inspector General.

DATES: Effective October 1, 2009.

FOR FURTHER INFORMATION CONTACT: Ms. Phyllis Hughes, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Charles Coe, Jr | Assistant Inspector General for Information Technology Audits and Computer Crime Investigations, Department of Education.
Karen Ellis | Assistant Inspector General for Investigations, Department of Agriculture.
Marla Freedman | Assistant Inspector General for Audit, Department of Treasury.
Lisa Martin | General Counsel, United States Postal Service, Office of Inspector General.
Linda Snider | Assistant Inspector General for Resource Management, Department of Energy.

Dated: September 28, 2009.
Patricia L. Toppings,
OSD Federal Register Liaison Officer, Department of Defense.

[FR Doc. E9-24128 Filed 10-6-09; 8:45 am]

BILLING CODE 5001-06-P